POSTAL SERVICE

Board of Governors; Sunshine Act Meeting

Federal Register CITATION OF PREVIOUS ANNOUNCEMENT: 86 FR 1122.

PREVIOUSLY ANNOUNCED TIME AND DATE OF THE MEETING: Thursday, January 14, 2021 at 3:00 p.m.

PLACE: Potomac, MD.

STATUS: Thursday, January 14, 2021—Closed.

CHANGES IN THE MEETING: Time of closed session changed.

REVISED TIME: Thursday, January 14, 2021, at 1:45 p.m.

CONTACT PERSON FOR MORE INFORMATION: Michael J. Elston, Secretary of the Board, U.S. Postal Service, 475 L'Enfant Plaza SW, Washington, DC 20260-1000. Telephone: (202) 268-4800.

Michael J. Elston,
Secretary.

[FR Doc. 2021-01343 Filed 1-15-21; 11:15 am]

BILLING CODE 7710-12-P